ENVIRONMENTAL PROTECTION AGENCY

[FRL: 11943-01-OEJECR; EPA-HQ-OEJECR-2024-0147]

White House Environmental Justice Advisory Council; Notification of Public Meeting

AGENCY: Environmental Protection Agency (EPA).

ACTION: Notification for a public meeting.

SUMMARY: Pursuant to the Federal Advisory Committee Act (FACA), the U.S. Environmental Protection Agency (EPA) hereby provides notice that the White House Environmental Justice Advisory Council (WHEJAC) will meet on the dates and times described below. Due to unforeseen administrative circumstances, EPA is announcing this meeting with less than 15 calendar days public notice. The White House Environmental Justice Interagency Council (IAC) will meet jointly with the WHEJAC and jointly take public comment, as described below, consistent with the Executive order on Revitalizing Our Nation's Commitment to Environmental Justice for All. These meetings are open to the public. For additional information about registering to attend the meetings or provide public comment, please see “REGISTRATION” under the SUPPLEMENTARY INFORMATION. Pre-registration is required.

DATES: The WHEJAC will convene a virtual public meeting on Wednesday, June 5, 2024, from approximately 12 p.m. to 6:30 p.m. and Thursday, June 6, 2024, from approximately 12 p.m. to 6:30 p.m., Eastern Time. The IAC, in coordination with the WHEJAC, will convene a virtual joint public meeting, which will include a public comment period on Wednesday, June 5, 2024, from approximately 4 p.m. to 6:30 p.m., Eastern Time, and reconvene a topic-focused session on Thursday, June 6, 2024, from approximately 3:30 p.m. to 5 p.m., Eastern Time. Members of the public who wish to participate in the public comment period must register by 11:59 p.m. Eastern Time, May 30, 2024.

FOR FURTHER INFORMATION CONTACT: Audrie Washington, WHEJAC Designated Federal Officer, U.S. EPA; email: whejac@epa.gov; telephone: (202) 441-7295. For additional information about the WHEJAC, visit https://www.epa.gov/environmentaljustice/white-house-environmental-justice-advisory-council#meetings.

SUPPLEMENTARY INFORMATION: The Charter of the WHEJAC states that the advisory committee “will provide independent advice and recommendations to the Chair of the Council on Environmental Quality (CEQ) and to the White House Environmental Justice Interagency Council (IAC) on how to increase the Federal Government's efforts to address current and historic environmental injustice. The WHEJAC will provide advice and recommendations about broad cross-cutting issues related, but not limited, to issues of environmental justice and pollution reduction, energy, climate change mitigation and resiliency, environmental health, and racial inequity. The WHEJAC's efforts will include a broad range of strategic, scientific, technological, regulatory, community engagement, and economic issues related to environmental justice.”

Executive Order 14008 on Tackling the Climate Crisis at Home and Abroad, as amended by Executive Order 14096 on Revitalizing Our Nation's Commitment to Environmental Justice for All, established the IAC to, among other things, pursue a whole-of-government approach to advance environmental justice for all, as defined in Executive Order 14096, including to facilitate interagency coordination and collaboration on programs and activities related to environmental justice; and to develop and sustain a strategy to address current and historic environmental injustice and to cultivate effective strategic planning to advance environmental justice. To facilitate the work of the IAC, each IAC member has designated an official within the agency to serve as an Environmental Justice Officer, with the authority to represent the agency on the IAC. Executive Order 14096 directs the IAC to hold a public meeting in coordination with the WHEJAC. For more information about the IAC, see: https://www.whitehouse.gov/environmentaljustice/white-house-environmental-justice-interagency-council/.

The WHEJAC meeting will focus on several topics including, but not limited to, workgroup updates, updates from the Council on Environmental Quality (CEQ), panels, and final recommendations for CEQ and the IAC.

The IAC/WHEJAC joint public meeting will focus on several topics, such as Federal agencies' progress to advance environmental justice, including through the Justice40 Initiative, the Environmental Justice Scorecard, and environmental justice strategic planning; and formal recommendations from the WHEJAC to CEQ and the IAC. During the session, the WHEJAC and IAC will hear comments from the public relevant to current WHEJAC charges and other topics of interest.

Registration: Individual registration is required for the public meeting. No two individuals can share the same registration link. To register, visit https://www.epa.gov/environmentaljustice/white-house-environmental-justice-advisory-council#meetings. Members of the public may register to attend the public meeting throughout the duration of the meeting. Members of the public who wish to speak during the public comment period must register by 11:59 p.m., Eastern Time, May 30, 2024. When registering, please provide your name, organization, city and state, and email address for follow up, and indicate whether you would like to provide public comments during the meeting.

A. Public Comment: The WHEJAC is interested in receiving public comments relevant to the following charges and recommendations:

(1) Carbon management.

(2) Environmental justice issues affecting Indigenous Peoples and Tribal Nations.

The WHEJAC Indigenous Peoples and Tribal Nations Workgroup is particularly interested in receiving comments on: (a) Examples of environmental hazards of particular concern for Indigenous Peoples and Tribal Nations (for example, environmental hazards related to Federal activities that may affect sacred sites and areas of cultural significance, cultural or other traditions or practices, subsistence, and ways of life); (b) Ways in which the Federal Government can address community impacts on, and concerns of, Indigenous Peoples and Tribal Nations; and (c) Ways in which the incorporation of Indigenous knowledge into Federal decision making could help address environmental hazards and environmental justice concerns. More information about the WHEJAC's current charges can be found online at https://www.epa.gov/environmentaljustice/white-house-environmental-justice-advisory-council, under WHEJAC Membership and Workgroups.

The IAC is interested in receiving public comments relevant to environmental justice goals and priorities, either for the coming year or over a longer term, that could advance the IAC's mission and work as defined in Executive Orders 14008 and 14096, including on ways to address and respond to formal recommendations from the WHEJAC; ¹ the future Environmental Justice Science, Data, and Research Plan of the National Science and Technology Council's Environmental Justice Subcommittee; and environmental justice strategic planning and implementation of Executive Order 14096, including specific goals, objectives, priority actions, and metrics that could help agencies advance and assess progress over time.²

¹ To reference the WHEJAC's recommendations to CEQ and the IAC, as well as reports to Congress on these recommendations, see White House Environmental Justice Advisory Council, U.S. Environmental Protection Agency, https://www.epa.gov/environmentaljustice/white-house-environmental-justice-advisory-council#whejacrecommendations.

² See CEQ, Strategic Planning to Advance Environmental Justice Under Executive Order 14096, Revitalizing Our Nation's Commitment to Environmental Justice for All (October 2023), https://www.whitehouse.gov/wp-content/uploads/2023/11/Strategic-Planning-to-Advance-Environmental-Justice_final-Oct.-2023.pdf.

Individuals or groups making remarks during the oral public comment period will be limited to three minutes. EPA will give priority to speak during the meeting to public commenters with comments relevant to the topics and questions listed above. The WHEJAC and the IAC will make every effort to hear from each public commenter who has registered to provide oral comments during the time specified on the agenda but, in the interest of time, commenters are strongly encouraged to consider submitting written comments for the record. You can submit your written comments by using the webform at https://www.epa.gov/environmentaljustice/forms/white-house-environmental-justice-advisory-council-whejac-public-comment; by emailing comments to whejac@epa.gov; or by visiting https://www.regulations.gov and opening Docket ID No. EPA-HQ-OEJECR-2024-0147. The WHEJAC and the IAC will accept written comments through Wednesday, June 19, 2024.

B. Information About Services for Individuals With Disabilities or Requiring English Language Translation Assistance: For information about access or services for individuals requiring assistance, contact Audrie Washington at (202) 441-7295 or whejac@epa.gov. All requests should be sent via this email or phone number. To request special accommodations for a disability or other assistance, please submit your request at least seven (7) working days prior to the meeting, to give EPA sufficient time to process your request.

Theresa Segovia,
Principal Deputy Assistant Administrator, Office of Environmental Justice and External Civil Rights.

[FR Doc. 2024-11181 Filed 5-21-24; 8:45 am]

BILLING CODE 6560-50-P